DEPARTMENT OF ENERGY

[Docket No. EA-232-A]

Application to Export Electric Energy; OGE Energy Resources, Inc.

AGENCY: Office of Fossil Energy, DOE.

ACTION: Notice of application.

SUMMARY: OGE Energy Resources, Inc. (OERI) has applied for authority to transmit electric energy from the United States to Canada pursuant to section 202(e) of the Federal Power Act.

DATES: Comments, protests or requests to intervene must be submitted on or before June 16, 2003.

ADDRESSES: Comments, protests or requests to intervene should be addressed as follows: Office of Coal & Power Im/Ex (FE-27), Office of Fossil Energy, U.S. Department of Energy, 1000 Independence Avenue, SW., Washington, DC 20585-0350 (FAX (202) 287-5736).

FOR FURTHER INFORMATION CONTACT: Xavier Puslowski (Program Office) (202) 586-4708 or Michael Skinker (Program Attorney) (202) 586-2793.

SUPPLEMENTARY INFORMATION: Exports of electricity from the United States to a foreign country are regulated and require authorization under section 202(e) of the Federal Power Act (FPA) (16 U.S.C. 824a(e)).

On February 6, 2001, the Office of Fossil Energy (FE) of the Department of Energy (DOE) received an application from OERI to transmit electric energy from the United States to Canada. On April 16, 2001, OERI was issued an export authorization by DOE for a two year period. The authorization expired on April 16, 2003. On April 22, 2003, OERI applied to DOE for renewal of its application. OERI is an Oklahoma corporation created for the purposes of marketing electricity, natural gas and other energy commodities throughout North America. OERI will purchase the power to be exported from electric utilities and Federal power marketing agencies in the United States.

OERI proposes to arrange for the delivery of electric energy to Canada over the existing international transmission facilities owned by Basin Electric Power Cooperative, Bonneville Power Administration, Citizens Utilities Co., Eastern Maine Electric Cooperative, International Transmission Company, Joint Owners of the Highgate Project, Long Sault, Inc., Maine Electric Power Company, Maine Public Service Company, Minnesota Power and Light Inc., Minnkota Power Cooperative, New York Power Authority, Niagara Mohawk Power Corporation, Northern States Power, and Vermont Electric Transmission Company. The construction, operation, maintenance, and connection of each of the international transmission facilities to be utilized by OERI, as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the OERI application to export electric energy to Canada should be clearly marked with Docket EA-232-A. Additional copies are to be filed directly with Patricia Horn, Esq., General Counsel, Enogex Inc., Suite 600, 515 Central Park Drive, Oklahoma City, OK 73105 and Tyson L. Williams, Attorney, OEG Energy Resources, Inc. Suite 408 Oklahoma City, OK 73105.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home page at http://www.fe.doe.gov. Upon reaching the Fossil Energy Home page, select “Regulatory Programs,” then “Electricity Regulation,” and then “Pending Proceedings” from the options menus.

Issued in Washington, DC, on May 8, 2003.
Anthony J. Como,
Deputy Director, Electric Power Regulation, Office of Coal & Power Im/Ex, Office of Coal & Power Systems, Office of Fossil Energy.

[FR Doc. 03-12162 Filed 5-14-03; 8:45 am]

BILLING CODE 6450-01-P